SOCIAL SECURITY ADMINISTRATION

[Docket No. SSA-2023-0038]

Privacy Act of 1974; System of Records

AGENCY: Social Security Administration (SSA).

ACTION: Notice of a modified system of records.

SUMMARY: In accordance with the Privacy Act of 1974, we are issuing public notice of our intent to modify our existing systems of records listed below under the System Name and Number section. This notice publishes details of the modified systems as set forth below under the caption, SUPPLEMENTARY INFORMATION.

DATES: The system of records notice (SORN) is applicable upon its publication in today's Federal Register, with the exception of the new routine use, which is effective March 28, 2024.

We invite public comment on the addition of the routine use. In accordance with the Privacy Act of 1974, we are providing the public a 30-day period in which to submit comments. Therefore, please submit any comments by March 28, 2024.

ADDRESSES: The public, Office of Management and Budget (OMB), and Congress may comment on this publication by writing to the Executive Director, Office of Privacy and Disclosure, Office of the General Counsel, SSA, Room G-401, West High Rise, 6401 Security Boulevard, Baltimore, Maryland 21235-6401, or through the Federal e-Rulemaking Portal at https://www.regulations.gov. Please reference docket number SSA-2023-0038. All comments we receive will be available for public inspection at the above address, and we will post them to https://www.regulations.gov.

FOR FURTHER INFORMATION CONTACT: Tristin Dorsey, Government Information Specialist, Privacy Implementation Division, Office of Privacy and Disclosure, Office of the General Counsel, SSA, Room G-401, West High Rise, 6401 Security Boulevard, Baltimore, Maryland 21235-6401, telephone: (410) 966-5855, email: OGC.OPD.SORN@ssa.gov.

SUPPLEMENTARY INFORMATION: Recognizing that representatives sometimes work on behalf of and receive a salary from an entity when performing services for an individual filing for and receiving benefits, we are modifying an existing routine use in the Attorney Fee File (60-0003) and establishing a new routine use in the Claims Folders System (60-0089) to reflect the following:

To a representative (current or former) or the entity with which the representative has affiliated through registration, to the extent necessary to dispose of a fee petition or fee agreement or resolve other fee related issues in claims-related matters, but not to include pre-decisional deliberative documents, such as analyses and recommendations prepared for the decision-maker.

System number and name | Routine uses | Federal Register citation number/ publication date
60-0003—Attorney Fee File | No. 4 | 71 FR 1803, 01/11/06.
|  | 72 FR 69723, 12/10/07.
|  | 83 FR 54969, 11/01/18.
60-0089—Claims Folders System | No. 39 | 84 FR 58422, 10/31/19.

We are not republishing the system of records notices in their entirety. Instead, we are republishing only the identification number; the system of records name; the number of the modified or new routine use; and the issue of the Federal Register in which the system of records notice was last published in full, including the subsequent modification to the system of records notice's publication date and page number.

SECURITY CLASSIFICATION:

Unclassified.

SYSTEM LOCATION:

SSA provides the address of the component and system manager responsible for each system in the Federal Register notices listed above.

SYSTEM MANAGER(S):

SSA provides the title, business address, and contact information of the agency official who is responsible for the system in the Federal Register notices listed above.

HISTORY:

SSA provides the citation to the last fully published Federal Register notices, as well as, last subsequent modification notice to the system of records notices listed above.

In accordance with 5 U.S.C. 552a(r), we have provided a report to OMB and Congress on this modified system of records.

Matthew Ramsey,
Executive Director, Office of Privacy and Disclosure, Office of the General Counsel.

[FR Doc. 2024-03949 Filed 2-26-24; 8:45 am]

BILLING CODE 4191-02-P